DEPARTMENT OF STATE

[Public Notice: 7021]

Bureau of Verification, Compliance, and Implementation; Termination of Measures Against a Russian Entity

AGENCY: Department of State.

ACTION: Notice.

SUMMARY: A determination has been made to terminate sanctions imposed on Rosoboronexport (ROE) pursuant to Section 3 of the Iran, North Korea, and Syria Nonproliferation Act.

DATES: Effective Date: May 21, 2010.

FOR FURTHER INFORMATION CONTACT: On general issues: Stephen J. Tomchik, Bureau of Verification, Compliance, and Implementation, Department of State, Telephone (202) 647-1192. For U.S. Government procurement ban issues: Kimberly Triplett, Office of the Procurement Executive, Department of State, Telephone: (703) 875-4079.

SUPPLEMENTARY INFORMATION: Pursuant to Section 4 of the Iran, North Korea, and Syria Nonproliferation Act (Pub. L. 106-178), the U.S. Government determined on May 12, 2010 that sanctions imposed effective October 23, 2008 (73 FR 206) on the Russian entity Rosoboronexport (ROE) are terminated.

Dated: May 12, 2010.
Rose E. Gottemoeller,
Assistant Secretary of State for Verification, Compliance, and Implementation, Department of State.

[FR Doc. 2010-12304 Filed 5-20-10; 8:45 am]

BILLING CODE 4710-27-P